DEPARTMENT OF ENERGY

Federal Energy Regulatory Commission

[Docket No. RP00-337-000, Docket No. RP01-190-000 (not consolidated)]

Kern River Gas Transmission Company; Notice Rescheduling Technical Conference

March 15, 2001.

On January 5, 2001, Kern River Gas Transmission Company (Kern River) filed pro forma tariff sheets proposing the pipeline's segmentation policy in compliance with Order No. 637 and as discussed during a technical conference held on October 12, 2000. Kern River's segmentation filing has been protested.

On December 28, 2000, Kern River submitted pro forma tariff sheets to establish a mechanism in its tariff for converting the maximum daily quantities (MDQs) stated in its transportation service agreements to demand maximum daily quantities (DMDQs), transportation maximum daily quantities (TMDQs), and Receipt and Delivery Point Entitlements. This filing was also protested.

Take notice that the technical conference will take place on Tuesday, April 17, 2001, at 9:30 am, in a room to be designated at the offices of the Federal Energy Regulatory Commission, 888 First Street, NE, Washington, D.C. 20426.

In the interest of convenience for the parties involved, a second technical conference to address issues raised in Docket No. RP01-190-000 will begin on Tuesday, April 17, 2001, at 1:30 pm, directly following the segmentation conference, and will continue through Wednesday, April 18, 2001, if necessary. Parties protesting aspects of either or both of Kern River's filings should be prepared to discuss alternatives.

All interested persons and Staff are permitted to attend.

David P. Boergers,
Secretary.

[FR Doc. 01-6959 Filed 3-20-01; 8:45 am]

BILLING CODE 6717-01-M